ENVIRONMENTAL PROTECTION AGENCY

40 CFR Part 52

[EPA-R04-OAR-2008-0036-200801(b); FRL-8552-1]

Approval and Promulgation of Implementation Plans; North Carolina: Approval of Revisions to the 1-Hour Ozone Maintenance Plan for the Raleigh/Durham and Greensboro/Winston-Salem/High Point Areas

AGENCY: Environmental Protection Agency (EPA).

ACTION: Proposed rule.

SUMMARY: EPA is proposing to approve a February 4, 2008, revision to the State Implementation Plan submitted by the North Carolina Department of Environment and Natural Resources on behalf of the State of North Carolina for the purpose of revising the subarea motor vehicle emissions budgets (MVEBs) for volatile organic compounds and nitrogen oxides for the Greensboro/Winston-Salem/High Point area. The Greensboro/Winston-Salem/High Point 1-hour ozone maintenance area (also referred to as the “Triad Area”) is comprised of Davidson, Forsyth, and Guilford Counties and a portion of Davie County. The revisions to the subarea MVEBs are approvable because of an available safety margin for volatile organic compounds and nitrogen oxides for this Area.

In the Final Rules Section of this Federal Register, EPA is approving the State's SIP revision as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period on this document. Any parties interested in commenting on this document should do so at this time.

DATES: Written comments must be received on or before May 8, 2008.

ADDRESSES: Submit your comments, identified by Docket ID No. EPA-R04-OAR-2008-0036, by one of the following methods:

1. www.regulations.gov: Follow the on-line instructions for submitting comments.

(a) E-mail: ward.nacosta@epa.gov or wood.amanetta@epa.gov.

(b) Fax: (404) 562-9019.

2. Mail: EPA-R04-OAR-2008-0036, Regulatory Development Section, Air Planning Branch, Air, Pesticides and Toxics Management Division, U.S. Environmental Protection Agency, Region 4, 61 Forsyth Street, SW., Atlanta, Georgia 30303-8960.

3. Nacosta C. Ward, Regulatory Development Section, or Amanetta Wood, Air Quality Modeling Transportation Section, of the Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Please see the direct final rule which is located in the Rules section of this Federal Register for detailed instructions on how to submit comments.

FOR FURTHER INFORMATION CONTACT: Ms. Nacosta C. Ward of the Regulatory Development Section, or Ms. Amanetta Wood, Air Quality Modeling Transportation Section, Air Planning Branch, Air, Pesticides and Toxics Management Division, U.S. Environmental Protection Agency, Region 4, 61 Forsyth Street, SW., Atlanta, Georgia 30303-8960. The telephone numbers are (404) 562-9140 and (404) 562-9025 respectively. Ms. Nacosta Ward can be reached via electronic mail at ward.nacosta@epa.gov Ms. Amanetta Wood can be reached via electronic mail at wood.amanetta@epa.gov.

SUPPLEMENTARY INFORMATION: For additional information see the direct final rule which is published in the Rules Section of this Federal Register.

Dated: March 27, 2008.
J.I. Palmer, Jr.,
Regional Administrator, Region 4.

[FR Doc. E8-7187 Filed 4-7-08; 8:45 am]

BILLING CODE 6560-50-P